CORPORATION FOR NATIONAL AND COMMUNITY SERVICE

Revision of Currently Approved Collection; Submission for OMB Review; Comment Request

AGENCY: Corporation for National and Community Service.

ACTION: Notice.

The Corporation for National and Community Service (hereinafter the “Corporation”) has submitted the following public information collection request (ICR) to the Office of Management and Budget (OMB) for review and approval in accordance with the Paperwork Reduction Act of 1995 (Public Law 104-13, (44 U.S.C. chapter 35). Copies of these individual ICRs, with applicable supporting documentation, may be obtained by calling the Corporation for National and Community Service, Nancy Talbot, Director, Planning and Program Development, (202) 606-5000, extension 470. Individuals who use a telecommunications device for the deaf (TTY-TDD) may call (202) 565-2799 between 8:30 a.m. and 5 p.m. Eastern time, Monday through Friday.

Comments should be sent to the Office of Information and Regulatory Affairs, Attn: Ms., Brenda Aguilar, OMB Desk Officer for the Corporation for National and Community Service, Office of Management and Budget, Room 10235, Washington, DC 20503, (202) 395-6929, within 30 days from the date of this publication in the Federal Register.

The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information to those who are to respond, including through the use of appropriate automated, electronic, mechanical, or other technological collection techniques or other forms of information technology, e.g. permitting electronic submissions of responses.

The Corporation seeks public comment on the forms, the instructions and forms, and the instructions for the narrative portion of the following application instructions.

Part I

Type of Review: Revised collection.

Agency: Corporation for National and Community Service.

Title: AmeriCorps*VISTA Project Application Instructions.

OMB Number: 3045-0038.

Agency Number: None.

Affected Public: Eligible public, private, and faith-based nonprofit organizations.

Total Respondents: 1,200.

Frequency: Once per year.

Average Time Per Response: Fifteen (15) hours.

Estimated Total Burden Hours: 20,000 hours.

Total Burden Cost (capital/startup): None.

Total Burden Cost (operating/maintenance): None.

Description: These application instructions will be used by eligible nonprofit organizations and public agencies requesting assistance in establishing VISTA community service programs.

Part II

Type of Review: Reinstatement, with change.

Agency:

Corporation for National and Community Service.

Title: National Senior Service Corps Application Instructions.

OMB Number: 3045-0035.

Agency Number: None.

Affected Public: Eligible applicants to the Corporation for funding.

Total Respondents: 1,513.

Frequency: Annually.

Average Time Per Response: 13.2 hours.

Estimated Total Burden Hours: 20,027 hours.

Total Burden Cost (capital/startup): None.

Total Burden Cost (operating/maintenance): $6,500.

Description: These application instructions will be used by eligible organizations requesting assistance through Senior Corps programs including Retired and Senior Volunteer Programs (RSVP), Senior Companion Programs (SCP) and Foster Grandparents (FGP).

Part III

Type of Review: Revised collection.

Agency: Corporation for National and Community Service.

Title: AmeriCorps*National, State, Indian Tribes and U.S. Territories Application Instructions.

OMB Number: 3045-0047.

Agency Number: None.

Affected Public: Eligible applicants to the Corporation for funding.

Total Respondents: 2,000.

Frequency: Once per year.

Average Time Per Response: Ten (10) hours.

Estimated Total Burden Hours: 20,000 hours.

Total Burden Cost (capital/startup): None.

Total Burden Cost (operating/maintenance): None.

Description: These application instructions will be used by eligible nonprofit organizations and public agencies requesting assistance in establishing AmeriCorps community service programs.

Part IV

Type of Review: Revised collection.

Agency: Corporation for National and Community Service.

Title: AmeriCorps Education Awards Program Application Instructions.

OMB Number: 3045-0065.

Agency Number: None.

Affected Public: Eligible applicants to the Corporation for funding.

Total Respondents: 200.

Frequency: Annually.

Average Time Per Response: Eight (8) hours.

Estimated Total Burden Hours: 1,600 hours.

Total Burden Cost (capital/startup): None.

Total Burden Cost (operating/maintenance): None.

Description: These application instructions will be used by eligible nonprofit organizations and public agencies requesting assistance in establishing AmeriCorps Education Awards Programs community service programs.

Part VI

Type of Review: New collection.

Agency: Corporation for National and Community Service.

Title: Innovative and Demonstration Application Instructions.

OMB Number: None.

Agency Number: None.

Affected Public: Eligible applicants to the Corporation for funding.

Total Respondents: 400.

Frequency: Annually.

Average Time Per Response: Twenty (20) hours.

Estimated Total Burden Hours: 4,000 hours.

Total Burden Cost (capital/startup): None.

Total Burden Cost (operating/maintenance): None.

Description: These application instructions will be used by eligible nonprofit organizations and public agencies requesting assistance in establishing community service, innovative or demonstration programs.

Dated: November 25, 2002.
Nancy Talbot,
Director, Program Planning and Development.

[FR Doc. 02-30373 Filed 11-27-02; 8:45 am]

BILLING CODE 6050-$$-P